AGENCY FOR INTERNATIONAL DEVELOPMENT

Senior Executive Service: Membership of Performance Review Board

ACTION: Notice.

SUMMARY: The following persons are members of the 2005 Senior Executive Service Performance Review Board:

Lisa Fiely, Chair

Marilyn Marton

Drew Luten,

Franklin Moore

Amy Billingsley

FOR FURTHER INFORMATION CONTACT: Darren Shanks, 202-712-5685.

Dated: November 8, 2005.
Darren Shanks,
Executive and Performance Management.

[FR Doc. 05-22710 Filed 11-15-05; 8:45 am]

BILLING CODE 6116-01-P